DEPARTMENT OF AGRICULTURE

Natural Resources Conservation Service

Cane Creek Watershed, TN

AGENCY: Natural Resources Conservation Service, USDA.

ACTION: Notice of a Finding of No Significant Impact.

SUMMARY: Pursuant to Section 102(2)(c) of the National Environmental Policy Act of 1969; the Council on Environmental Quality Regulations (40 CFR part 1500); and the Natural Resources Conservation Service Guidelines (7 CFR part 650); the Natural Resources Conservation Service, U.S. Department of Agriculture, gives notice that an environmental impact statement is being prepared for the Cane Creek Watershed, Lauderdale County Tennessee.

FOR FURTHER INFORMATION, CONTACT: James W. Ford, State Conservationist, Natural Resources Conservation Service, 675 U.S. Courthouse, 801 Broadway, Nashville, Tennessee 37203, telephone number (615) 277-2531.

SUPPLEMENTARY INFORMATION: The environmental assessment of this federally assisted action indicated that the project will not cause significant local, regional, or national impacts on the environment. As a result of these findings, James W. Ford, State Conservationist, has determined that the preparation and review of an environmental impact statement are not needed for this project.

Cane Creek Watershed Remedial Plan, Tennessee—Notice of a Finding of No Significant Impact

The project purpose is remedial and is planned to correct degradation of the channel of Cane Creek and other associated damages. Repair work is necessary as a result of original design deficiencies during channel modification in 1970. The planned works of improvement include installation of five main channel structures and structures within the channel of two major tributaries. Federal financial assistance will be provided to effect recommended repairs.

The Notice of a Finding of No Significant Impact (FONSI) has been forwarded to the Environmental Protection Agency and to various federal, state, and local agencies and interested parties. A limited number of copies of the FONSI are available to fill single copy requests at the above address. Basic data developed during the environmental assessment are on file and may be reviewed by contacting James W. Ford. No administrative action on implementation of the proposal will be taken until 30 days after the date of this publication in the Federal Register.

No administrative action on implementation of the proposal will be taken until 30 days after the date of this publication in the Federal Register.

(This activity is listed in the Catalog of Federal Domestic Assistance under No. 10.904—Watershed Protection and Flood Prevention—and is subject to the provisions of Executive Order 12372, which requires intergovernmental consultation with State and local officials.)

Dated: August 16, 2001.
James W. Ford,
State Conservationist.

[FR Doc. 01-22343 Filed 9-5-01; 8:45 am]

BILLING CODE 3410-16-P